DEPARTMENT OF VETERANS AFFAIRS

Advisory Committee on Women Veterans, Notice of Meeting

The Department of Veterans Affairs gives notice under Public Law 92-463 that a meeting of the Advisory Committee on Women Veterans will be held on October 24-26, 2000, at the Department of Veterans Affairs, 810 Vermont Avenue, NW, Washington, DC. All meetings will be held in conference room 230.

The purpose of the Committee is to advise the Secretary of Veterans Affairs regarding the needs of women veterans with respect to health care, rehabilitation, compensation, outreach, and other programs and activities administered by the Department of Veterans Affairs designed to meet such needs. The Committee will make recommendations to the Secretary regarding such activities.

All sessions will be open to the public. Those who plan to attend should contact Ms. Maryanne Carson, Department of Veterans Affairs, Center for Women Veterans, 810 Vermont Avenue, NW, Washington, DC 20420, at (202) 273-6193. Tentative agenda follows:

Tuesday, October 24

8:30a: Welcome and Introduction of New Members, Ms. Joan Furey

9:00a: Presentation of Appointment Certificates, The Honorable Hershel Gober, Acting Secretary of Veterans Affairs (Tentative)

9:30a-12n: Completion of 2000 Report

12n: Lunch

1:30p: Review of Agenda, Chair, Karen Ray, Col., USA (Ret)

2:00p: Role of the Advisory Committee in the Development of VA Programs for Women, Princess Aisha of Jordan (Tentative)

2:45p: Break

3:00p: Committee Update, Col. Ray

3:30p: Center for Women Veterans Update, Ms. Furey

4:15p: General Discussion, Committee

5:00p: Adjourn

Wednesday, October 25

8:30a: Persian Gulf Research Initiatives, Dr. Kelly Brix

9:15a: Veterans Health Administration, Ms. Carole Turner, Director, Women Veterans' Health Programs

10:15a: Break

10:30a: Veterans Benefits Administration, Ms. Lynda Petty, Women Veterans Coordinator

11:00a: Women Veterans Homeless Initiative, Ms. Gay Koerber and Dr. Robert Rosenheck

12n: Lunch

1:30p: Services for Women, Dr. Alfonso Batres, Director, Readjustment and Counseling Service

2:15p: Providing Services for African American Women Veterans: Factors to Consider, Col. Ray

3:00p: Break

3:15p: Providing Services for Hispanic Women Veterans: Factors to Consider, Committee Members: Ms. Consuelo Kickbusch and Ms. Bertha Cruz Hall

4:00p: General Discussion, Committee

5:00p: Adjourn

Thursday, October 26

9:00a: Planning Session: Committee

• Review 2000 Report

• FY 2001 Objectives

• Subcommittee Assignments

• Site Visit Designation

• Set Date for Next Meeting

1:00p: Adjourn

By direction of the Secretary.

Dated: October 10, 2000.
Marvin R. Eason, By direction of the Secretary.
Committee Management Officer.

[FR Doc. 00-26665 Filed 10-16-00; 8:45 am]

BILLING CODE 8320-01-M